DEPARTMENT OF JUSTICE

Drug Enforcement Administration

Manufacturer of Controlled Substances; Notice of Application

Pursuant to section 1301.33(a) of title 21 of the Code of Federal Regulations (CFR), this is notice that on December 10, 1999, Salsbury Chemicals, Inc., 1205 11th Street, Charles City, Iowa 50616-3466, made application to the Drug Enforcement Administration (DEA) for registration as a bulk manufacturer of amphetamine (1100) and by letter dated March 14, 2000, for registration to bulk manufacture methylphenidate (1724), basic classes of controlled substances listed in Schedule II.

The firm plans to manufacture amphetamine and methylphenidate for distribution as bulk product.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, D.C. 20537, Attention: DEA Federal Register Representative (CCR), and must be filed no later than August 21, 2000.

Dated: June 7, 2000.
John H. King,
Deputy Assistant Administrator, Office of Diversion Control, Drug Enforcemnt Administration.

[FR Doc. 00-15690 Filed 6-21-00; 8:45 am]

BILLING CODE 4410-09-M